FEDERAL MARITIME COMMISSION

Sunshine Act Meeting

AGENCY HOLDING THE MEETING: Federal Maritime Commission.

TIME AND DATE: April 13, 2011—10 a.m.

PLACE: 800 North Capitol Street, NW., First Floor Hearing Room, Washington, DC.

STATUS: The meeting will be an Open Session.

Matters To Be Considered

1. Update on Situation at the Fukushima Nuclear Power Plant in Japan.

2. Staff Review and Recommendation Concerning Activities that May Be Conducted without Further Agreement Filings Under Commission Rule 46 CFR 535.408.

3. Discussion of Current Trade Conditions and Next Steps on Commission's Fact Finding 26 Recommendations.

4. Discussion of Level of Financial Responsibility to Meet Liability Incurred for Death or Injury to Passengers or Other Persons on Voyages.

CONTACT PERSON FOR MORE INFORMATION: Karen V. Gregory, Secretary, (202) 523-5725.

Karen V. Gregory,
Secretary.

[FR Doc. 2011-8571 Filed 4-6-11; 4:15 pm]

BILLING CODE 6730-01-P